COMMODITY FUTURES TRADING COMMISSION

Agency Information Collection Activities Under OMB Review

AGENCY: Commodity Futures Trading Commission.

ACTION: Notice.

SUMMARY: The Office of Consumer Outreach (OCO), Commodity Futures Trading Commission (CFTC), invites public comment on its proposed Information Collection Request (ICR), in compliance with the Paperwork Reduction Act (44 U.S.C. 3501 et seq.), for the Generic Clearance for the Collection of Qualitative Feedback on Agency Service Delivery. The ICR has been submitted to the Office of Management and Budget (OMB) for approval, and describes the nature of the information collection and its expected costs and burden.

DATES: Comments must be submitted on or before May 8, 2013.

ADDRESSES: An agency may not conduct or sponsor, and a person is not required to respond to, a collection of information unless it displays a currently valid OMB control number. The Federal Register notice with a 60-day comment period soliciting comments on this collection of information was published on January 28, 2013 (78 FR 5780). Comments were solicited and continue to be invited. Send comments regarding the burden estimated or any other aspect of the information collection, including suggestions for reducing the burden, to the addresses listed below. Please refer to OMB Control No. 3038-XXXX, Generic Clearance for the Collection of Qualitative Feedback on Agency Service Delivery, in any correspondence: Nisha Smalls, Office of Consumer Outreach, Commodity Futures Trading Commission, 1155 21st Street NW., Washington, DC 20581 and Office of Information and Regulatory Affairs, Office of Management and Budget, Attention: Desk Office for CFTC, 725 17th Street NW., Washington, DC 20503.

Comments may also be submitted by any of the following methods:

The agency's Web site at http://comments.cftc.gov. Follow the instructions for submitting comments through the Web site.

Mail: Secretary of the Commission, Commodity Futures Trading Commission, Three Lafayette Centre, 1155 21st Street NW., Washington, DC 20581.

Hand Delivery/Courier: Same as mail above.

Federal eRulemaking Portal: http://www.regulations.gov. Follow the instructions for submitting comments.

Please submit your comments using only one method, and identify that it is for the Federal Register notice titled, Generic Clearance for the Collection of Qualitative Feedback on Agency Service Delivery.

All comments must be submitted in English, or if not, accompanied by an English translation. Comments will be posted as received to www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

For Further Information Or a Copy Contact: Nisha Smalls, Office of Consumer Outreach, Commodity Futures Trading Commission, 1155 21st Street NW., Washington, DC 20581, (202) 418-5895; FAX: (202) 418-5541; email: nsmalls@cftc.gov and refer to this Federal Register notice.

SUPPLEMENTARY INFORMATION:

Title: Generic Clearance for the Collection of Qualitative Feedback on Agency Service Delivery.

Abstract: The information collection activity will consist of a variety of service delivery-focused activities over the next few years including consumer outreach and information-sharing with stakeholders that are responsive to stakeholders' needs and sensitive to changes in the consumer market. The proposed information collection activity will use similar methods for information collection or otherwise share common elements, and provide a means to gather qualitative customer and stakeholder feedback in an efficient, timely manner. By qualitative feedback we mean information that provides useful information on perceptions and opinions. The solicitation of information on delivery of consumer services will address such areas as appropriate messages, effective message delivery methods, and current consumer beliefs, psychographics and social norms that will assist the OCO in developing an outreach and communications campaign designed to change consumer behavior. Since these systems will use similar methods for information collection or otherwise share common elements, the OCO is proposing a generic clearance for this process which will allow the OCO to implement these systems and meet the obligations of the PRA without the delays of the normal clearance process.

Burden statement: The preliminary estimate of aggregate burden for this generic clearance follows. Since the statutory mandate behind the OCO's consumer outreach is new, the estimate of the number of respondents is a projection and could change significantly based on the collection method ultimately used in the research.

Respondents/Affected Entities: 240.

Estimated number of responses: 10 per year.

Estimated total annual burden on respondents: 2,400 responses.

Frequency of collection: once per request.

Average minutes per response: 120 minutes.

Estimated total annual burden hours requested: 4,800 hours.

Dated: April 3, 2013.
Melissa D. Jurgens,
Secretary of the Commission.

[FR Doc. 2013-08123 Filed 4-5-13; 8:45 am]

BILLING CODE 6351-01-P